DEPARTMENT OF TRANSPORTATION

Office of the Secretary

Notice of Applications for Certificates of Public Convenience and Necessity and Foreign Air Carrier Permits Filed Under Subpart B (formerly Subpart Q) During the Week Ending February 11, 2005

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-20363.

Date Filed: February 8, 2005.

Due Date for Answers, Conforming Applications, or Motion to Modify Scope: March 1, 2005.

Description: Application of PM Air, LLC, requesting a certificate of public convenience and necessity to transport passengers, property, and mail in interstate air transportation.

Docket Number: OST-2005-20395.

Date Filed: February 10, 2005.

Due Date for Answers, Conforming Applications, or Motion to Modify Scope: March 3, 2005.

Description: Application of Flyjet Limited, requesting a foreign air carrier permit to conduct charter foreign air transportation of persons, property, and mail between a point or points in the United Kingdom, on the one hand, and a point or points in the United States, on the other, via intermediate points, and other charter flights.

Docket Number: OST-2005-20402.

Date Filed: February 11, 2005.

Due Date for Answers, Conforming Applications, or Motion to Modify Scope: March 4, 2005.

Description: Application of Hong Kong Dragon Airlines Limited d/b/a Dragonair, requesting an amended foreign air carrier permit authorizing it to engage in foreign air transportation of property and mail between Hong Kong and the United States.

Renee V. Wright,
Acting Program Manager, Docket Operations, Alternate Federal Register Liaison.

[FR Doc. 05-3758 Filed 2-25-05; 8:45 am]

BILLING CODE 4910-62-P